FEDERAL MARITIME COMMISSION

[Fact Finding Investigation No. 24]

Exclusive Tug Arrangements in Florida Ports; Order of Investigation

Notice is given that on May 24, 2001, the Federal Maritime Commission (“Commission”) issued an Order instituting a nonadjudicatory investigation of exclusive tug arrangements in Port Canaveral, Florida and Port Everglades, Florida. The Order was issued pursuant to sections 10, 11, 12 and 15 of the Shipping Act of 1984, 46 U.S.C. app. 1709, 1710, 1711 and 1714, and part 502, Subpart R of Title 46 of the Code of Federal Regulations, 46 CFR 502.281, et seq. The purpose of the investigation is to gather facts relating to the practices of the Canaveral Port Authority and the Port Everglades Department/Broward County Board of County Commissioners concerning exclusive tug arrangements in their respective ports.

Commissioner Antony M. Merck is the proceeding's Investigative Officer. The Commission's Order directs the development of a record on possible harm caused by tug monopolies at these ports and the factors which may be offered as justification for either or both of the respective port's actions in preventing competition for tug services. A report is to be submitted to the Commission no later than 180 days of the publication of this Notice in the Federal Register, and interim reports if it appears that more immediate Commission action is necessary. The report should include recommendations for any further Commission action, including any formal adjudicatory, injunctive or rulemaking proceedings, warranted by the factual record developed in the proceeding. The Investigative Officer's reports will remain confidential unless and until the Commission provides otherwise.

The Investigative Officer has been authorized to hold public or non-public sessions, to resort to all compulsory process authorized by law (including the issuance of subpoenas ad testificandum and duces tecum), to administer oaths, to require reports, and to perform such other duties as may be necessary in accordance with the laws of the United States and the regulations of the Commission. Interested persons are invited and encouraged to contact the Investigative Officer at (202) 523-5712 (Phone), or (202) 523-0522 (Fax), should they wish to provide testimony or evidence, or to contribute in any other manner to the development of a complete factual record in this proceeding.

The full text of the Order may be viewed on the Commission's home page at http://www.fmc.gov, or at the Office of the Secretary, Room 1046, 800 N. Capitol Street, NW, Washington, DC.

Bryant L. VanBrakle,
Secretary.

[FR Doc. 01-13699 Filed 5-31-01; 8:45 am]

BILLING CODE 6730-01-P